NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (#10719).

Date/Time: Wednesday, Nov. 21, 2001, 2 pm-5 pm EDT.

Place: Rm. 130, National Science Foundation, 4201 Wilson Blvd., Arlington, VA.

Type of Meeting: Open Teleconference Meeting. Persons wishing to attend the meeting at NSF should contact Richard Hilderbrandt to arrange for a visitor's pass.

Contact Person: Dr. Richard Hilderbrandt, Program Director, Division of Advanced Computational Infrastructure and Research, Suite 1122, National Science Foundation, 4201 Wilson Boulevard, Arlington, VA 22230, Tel: (703) 292-7093, e-mail: rhilderb@nsf.gov.

Purpose of Meeting: To develop a plan for the preparation of a report to the National Science Foundation concerning he broad topic of advanced cyberinfrastructure and the evaluation of the existing Partnerships for Advanced Computational Infrastructure.

Agenda:

Announcements and news sharing.

Sub-committee status reports.

Comments by invited visitors.

Review of draft of outline of report.

Next Steps.

Matters Arising.

Dated: October 30, 2001.
Susanne Bolton,
Committee Management Officer.

[FR Doc. 01-27618 Filed 11-1-01; 8:45 am]

BILLING CODE 7555-01-M